DEPARTMENT OF DEFENSE

Department of the Army

Notice of Prospective Grant of Two Partially Exclusive Patent Licenses

AGENCY: Department of the Army, DoD.

ACTION: Notice.

SUMMARY: In accordance with the provisions of 35 U.S.C. 209(c)(1) and 37 CFR Part 404.7(a)(1)(i), Army Research Laboratory (ARL) hereby gives notice that it is contemplating the grant of two partially exclusive licenses in the United States to practice the invention embodied in U.S. Patent 5,876,960, “Bacterial Spore Detection and Quantification Methods, to the following small businesses: Nomadics, Inc., 1024S Innovation Way, Stillwater, OK 74074 and Ocean Optics, Inc., 380 Main Street, Dunedin, FL 34698.

This technology relates to methods for the detection and quantification of bacterial spores in a sample medium.

FOR FURTHER INFORMATION CONTACT: Ms. Norma Cammarata, Technology Transfer Office, U.S. Army Research Laboratory, ATTN: AMSRL-DP-T, Powder Mill Road, Adelphi, MD 20783-1197, Phone: (301) 394-2952 or e-mail: normac@arl.army.mil

SUPPLEMENTARY INFORMATION: The prospective partially exclusive licenses will be royalty bearing and will comply with the terms and conditions of 35 U.S.C. 209 and 37 CFR 404.7. The prospective partially exclusive licenses may be granted, unless ARL recieves written evidence and argument to establish that the grant of the lincese would not be consistent with the requirements of 35 U.S.C. 209 and 37 CFR 404.7 by 21 June 2002.

Luz D. Ortiz,
Army Federal Register Liaison Officer.

[FR Doc. 02-14229 Filed 6-5-02; 8:45 am]

BILLING CODE 3710-08-M